DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of August 1, 2020 through August 31, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) the sales or production, or both, of such firm, have decreased absolutely; AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services From a Foreign Country Path:

(i) (I) there has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,331A | Federal Mogul Powertrain, LLC, Tenneco Inc | Lake City, MN | October 25, 2018.
95,336 | Appvion Operations, Inc., Appvion Holding Corp., Adecco, Advantage Resource Group | Roaring Spring, PA | October 29, 2018.
95,714 | Symbeo, Inc., CorVel Corporation | Portland, OR | February 20, 2019.
96,055 | Paccar Winch, Inc., Paccar, Inc., Adecco Staffing | Broken Arrow, OK | July 14, 2019.
96,064 | Textron Aviation Inc., Textron, Advanced Technology Innovation, PDS Tech, Synergy Services, etc. | Wichita, KS | July 15, 2019.
96,072 | Phelps Dodge Industries, Inc., Rod & Refining Division, Freeport Minerals Corporation | Norwich, CT | July 21, 2019.

The following certifications have been issued. The requirements of Section 222(a)(2)(B) (Shift in Production or Services to a Foreign Country Path or Acquisition of Articles or Services from a Foreign Country Path) of the Trade Act have been met.

TA-W No. | Subject firm | Location | Impact date
95,331 | Federal-Mogul TP Liners, Inc., TPR America, Inc., Federal Mogul Powertrain, LLC | Lake City, MN | August 25, 2018.
95,334 | Investors Bank, Bank Secrecy Act/Anti-Money Laundering Department | Iselin, NJ | October 28, 2018.
95,375 | Henkel Corporation, Henkel Airflow Unit, Agile One | Chanhassen, MN | November 13, 2018.
95,376 | Jotun Paints, Inc., Aerotek, Express Employment | Belle Chasse, LA | November 13, 2018.
95,418 | SAP America, Inc., Data Center, SAP Product Engineering, 1F Technology, 23k Studios, etc | Newtown Square, PA | November 24, 2018.
95,459 | Fleetwood Industries, Inc., Fleetwood Acquisition Corp | Shoemakersville, PA | December 6, 2018.
95,666 | Associated Spring, Barnes Group Inc., Vaco Bridgewater, Career Concepts | Corry, PA | February 6, 2019.
95,679 | GE Drives and Controls, Inc., Gas Power Division, General Electric Company | Salem, VA | September 5, 2020.
95,679A | Sterling Health Consulting & Practice Management, GE Drives and Controls, Inc., Gas Power Division, General Electric Company | Salem, VA | February 11, 2019.
95,866 | Change Healthcare Solutions, LLC, Change Healthcare Technologies, Change Healthcare, Cognizant, Innova, etc | Nashville, TN | April 2, 2019.
95,866A | Change Healthcare Solutions, LLC, Change Healthcare Technologies, Change Healthcare, Cognizant, Innova, etc | Nashville, TN | April 2, 2019.
95,876 | Novares US, LLC, Novares, Accounts Payable Accounts Receivable Group, AMBP Division | Livonia, MI | April 7, 2019.
95,929 | 9380-3955 Quebec Inc., E2IP TECHNOLOGIES USA, TECHNOLOGIES E2IP, E219 TECHNOLOGIES, etc | Bigfork, MN | May 21, 2019.
95,989 | Capgemini America, Inc., Capgemini North America, Cloud Infrastructure Services Division (INFRA) | Burbank, CA | June 15, 2019.
95,994 | Seagate Technology, Research & Development, Pilot Line, Manpower, Accounting Principals, etc | Shakopee, MN | June 16, 2019.
95,996 | Georgica Pine Clothiers, LLC, Sea Island Clothiers, BAPA Enterprises, Atrium Staffing, Michael Page, etc | Brooklyn, NY | June 17, 2019.
95,999 | TouchSensor Technologies, LLC, Methode Electronics, Advanced Resources, Strategic Labor Solutions | Wheaton, IL | June 17, 2019.
96,001 | ACProducts, Inc., Cabinetworks Group | Mt. Union, PA | June 18, 2019.
96,002 | The Homer Laughlin China Company | Newell, WV | June 19, 2019.
96,004 | Allianz Global Risks US Insurance Company, N.A., Allianz Global Corporate & Specialty, Operations Unit, etc | O'Fallon, MO | June 19, 2019.
96,011 | Truck-Lite Co., LLC, Clarience Technologies, Adecco | Falconer, NY | May 28, 2019.
96,015 | Conversant, Mobile Engineering Service Group, Alliance Data Systems, Publicis Groupe | San Francisco, CA | June 26, 2019.
96,021 | Dayco Products, LLC, Spring Production â€” Roseville, Kelly Services | Roseville, MI | June 29, 2019.
96,024 | Winoa USA, Inc. | Bedford, VA | June 29, 2019.
96,033 | Safran Cabin Bellingham, Inc., Safran Cabin, Inc., Adecco | Bellingham, WA | July 1, 2019.
96,040 | Meggitt-Oregon Inc., Airframe Systems, Meggitt-USA, Acara, Accounttemps Aerotek, Belcan, etc | McMinnville, OR | July 6, 2019.
96,045 | Triumph Aerostructures, Marshall Street Facility, Triumph Aerospace Structures, Triumph Group | Grand Prairie, TX | June 18, 2020.
96,065 | NTT Data Services, LLC, Service Desk Support, Next Level Business Services Inc., Randstad USA | Lincoln, NE | July 16, 2019.
96,065A | NTT Data Services, LLC, Service Desk Support, Next Level Business Services Inc., Randstad USA | Bowling Green, KY | July 16, 2019.
96,066 | Akebono Brake Corporation, Clarksville Plant, Akebono Brake Industry, Randstad Staffing, Aerotek, etc | Clarksville, TN | July 17, 2019.
96,082 | SEG Automotive North America LLC, SEG Automotive Germany GmbH | Novi, MI | July 22, 2019.
96,088 | Kerotest Manufacturing Corporation, Kerotest Industries Division, Kerotest Industries, Inc | Pittsburgh, PA | July 22, 2019.
96,095 | HF Rubber Machinery Inc., Aerotek | Topeka, KS | July 24, 2019.
96,113 | McNeilus Truck and Manufacturing, Inc., Oshkosh, Atlantic Labor Solutions, L&T Technology Services, etc | Dodge Center, MN | July 29, 2019.
96,115 | A&H Sportswear Company Inc | Stockertown, PA | July 30, 2019.
96,126 | NMG LLC | Norfolk, NE | August 5, 2019.
96,129 | Molnlycke, ResourceMFG, Adecco Employment Services, Aerotek, Inc | Indianapolis, IN | August 10, 2019.
96,130 | Lands' End, Inc., Information Technology, Systems Operation & Help Desk, Apex Systems, etc | Dodgeville, WI | August 10, 2019.
96,142 | Libbey Glass, Libbey Inc., Jean Simpson Inc | Shreveport, LA | August 17, 2019.

The following certifications have been issued. The requirements of Section 222(b) (supplier to a firm whose workers are certified eligible to apply for TAA) of the Trade Act have been met.

TA-W No. | Subject firm | Location | Impact date
95,632 | Mitec Powertrain, Inc., Mitec Automotive, Inc., Phoenix Staffing Limited | Findlay, OH | January 30, 2019.
95,901 | Larco, Inc | Crossett, AR | April 27, 2019.
96,033A | Safran Cabin Materials, LLC, Safran Cabin, Inc., Adecco | Newport, WA | July 1, 2019.
96,033B | Safran Cabin Materials, LLC, Safran Cabin, Inc., Adecco | Marysville, WA | July 1, 2019.
96,033C | Safran Cabin, Inc., Advanced Composites Division, Adecco, Terra Staffing Group | Marysville, WA | July 1, 2019.
96,063 | Kaiser Aluminum Corporation, Flat Rolled Products Division | Spokane Valley, WA | July 8, 2019.
96,063A | Kaiser Alutek Inc., Aerotek, Labor Finders (LF Staffing), Manpower | Spokane Valley, WA | July 8, 2019.
96,083 | AIM Group USA, Inc., Sekisui Aerospace Division | Auburn, WA | July 22, 2019.
96,083A | AIM Group USA, Inc., Sekisui Aerospace Division | Renton, WA | July 22, 2019.
96,083B | AIM Group USA, Inc., Sekisui Aerospace Division | Sumner, WA | July 22, 2019.
96,122 | Ran-Tech Engineering & Aerospace, Inc., Terra Staffing, Aerotek | Clackamas, OR | August 5, 2019.

The following certifications have been issued. The requirements of Section 222(b) (downstream producer to a firm whose workers are certified eligible to apply for TAA) of the Trade Act have been met.

TA-W No. | Subject firm | Location | Impact date
95,860 | PanelArtz, Inc., E. Roko Distributors, Inc | Kent, WA | March 31, 2019

The following certifications have been issued. The requirements of Section 222(e) (firms identified by the International Trade Commission) of the Trade Act have been met.

TA-W No. | Subject firm | Location | Impact date
95,943 | Brentwood Acquisition Corp., Woodcraft Industries, Inc., Express Employment Professionals | Molalla, OR | April 17, 2019.
95,960 | Western Cabinets Inc., Woodmont Cabinetry, Link Staffing Services Corp., Johnston's Service, etc | Dallas, TX | April 17, 2019.
95,962 | Hi-Lo Industries, Inc., Bridgewood Cabinetry, Axcet HR Solutions | Chanute, KS | April 17, 2019.

Negative Determinations for Worker Adjustment Assistance

In the following cases, the investigation revealed that the eligibility criteria for TAA have not been met for the reasons specified.

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,521 | Frank's International, LLC, Gulf of Mexico, Frank's International N.V., Spherion Staffing, etc | Lafayette, LA. |
95,681 | Elster American Meter Company, Research and Development Engineering, Smart Energy, Honeywell International | Nebraska City, NE. |
95,719 | Meggitt Aircraft Braking Systems Corporation, Meggitt-USA, Inc | Akron, OH. |
95,994A | Seagate Technology, Manpower, Accounting Principals, Experis, Global Technical Talent, etc | Bloomington, MN. |

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,367 | Flambeau River Papers, Flambeau River Biofuel Company | Park Falls, WI
95,515 | IPSCO Tubulars (KY) LLC, IPSCO Tubulars Inc., Tenaris S.A., Resource Manufacturing, etc | Catoosa, OK
95,517 | Buchanan Minerals, LLC, Coronado Global Resources Inc | Raven, VA
95,841 | Pier 1 Imports (U.S.) Inc., Pier 1 Imports Inc | Little Rock, AR
95,841A | Pier 1 Imports (U.S.) Inc., Pier 1 Imports Inc | Jonesboro, AR
95,842 | Pier 1 Imports (U.S.) Inc., Pier 1 Imports Inc | Kansas City, MO
95,842A | Pier 1 Imports (U.S.) Inc., Pier 1 Imports Inc | Shawnee, KS
95,842B | Pier 1 Imports (U.S.) Inc., Pier 1 Imports Inc | Olathe, KS
95,846 | Denver Plastics Nebraska | Wahoo, NE
95,861 | Philips Neuro, Philips NA LLC, Randstad, Ensunet | Eugene, OR
95,874 | Paramount Industrial Companies, Inc., ECN Staffing | Norfolk, VA
95,917 | United States Steel Corporation, Minnesota Ore Operations, G4S Secure Solutions and Cleaning Specialist | Keewatin, MN
95,930 | Halliburton Energy Services Inc., Halliburton Company, Human Resources Service Center | Duncan, OK
95,955 | Gerdau Ameristeel US Inc., Gerdau Ameristeel, BARR, Rumpca, G4S, First Class Mill, Wal-Zon, IMS, etc | Saint Paul, MN
95,992 | Nortech Graphics Inc., Penmac, Synergy HR | Lead Hill, AR
96,062 | Horizon Terra, Inc., idX Louisville, UFP Industries, Inc., idX Corporation | Jeffersonville, IN
96,092 | Lear Corporation, Advanced Assembly, LLC | Columbia City, IN

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
95,308 | Bucher & Christian Consulting, Inc., BCforward | Andover, MA
95,702 | Galesburg Castings, Inc | Galesburg, IL
95,921 | U.S. Bank, National Association, Enterprise Test Management Department, U.S. Bancorp | St. Paul, MN
96,070 | Pier 1 Imports, Inc | Warwick, RI
96,111 | Associated Spring | Corry, PA

The following determinations terminating investigations were issued in cases where the petition regarding the investigation has been deemed invalid.

TA-W No. | Subject firm | Location | Impact date
96,146 | James Counts | Surprise, AZ

The following determinations terminating investigations were issued because the worker group on whose behalf the petition was filed is covered under an existing certification.

TA-W No. | Subject firm | Location | Impact date
95,715 | Visron Design, Inc., Delphi Technologies Services, Technical Center Rochester, etc | West Henrietta, NY
95,746 | Mondelez Global LLC | Hanover Township, PA
95,756 | Lufkin Industries, Oilfield â€” Buck Creek Division, Quinn Pumps, Inc | Lufkin, TX
95,814 | Dun & Bradstreet | Tucson, AZ
95,814A | Dun & Bradstreet | Waltham, MA
95,953 | SAC Wireless, Nokia of America, Nokia, Nokia Solutions & Networks, Alcatel-Lucent USA | Naperville, IL
96,029 | The Boeing Company, Boeing Commercial Aircraft (BCA) | Seal Beach, CA
96,030 | FTE Automotive, USA, Inc., Valeo USA, Inc | Auburn Hills, MI
96,069 | NTT Security | Omaha, NE
96,147 | Pittsburgh Glass Works, LLC, Division of Vitro SAB DE C.V., Belcan Technical Services, Robert Half Mgmt | Pittsburgh, PA
96,147A | Pittsburgh Glass Works, LLC, Division of Vitro SAB DE C.V | Rochester Hills, MI

The following determinations terminating investigations were issued because the petitioning group of workers is covered by an earlier petition that is the subject of an ongoing investigation for which a determination has not yet been issued.

TA-W No. | Subject firm | Location | Impact date
95,956 | Halliburton Energy Services | Duncan, OK |

I hereby certify that the aforementioned determinations were issued during the period of August 1, 2020 through August 31, 2020. These determinations are available on the Department's website https://www.doleta.gov/tradeact/petitioners/taa_search_form.cfm under the searchable listing determinations or by calling the Office of Trade Adjustment Assistance toll free at 888-365-6822.

Signed at Washington DC this 16th day of September 2020.
Hope D. Kinglock,
Certifying Officer, Office of Trade Adjustment Assistance.

[FR Doc. 2020-21711 Filed 9-30-20; 8:45 am]

BILLING CODE 4510-FN-P